INTERNATIONAL TRADE COMMISSION

[Investigation Nos. 701-TA-612-613 and 731-TA-1429-1430 (Final)]

Polyester Textured Yarn From China and India

Determinations

On the basis of the record ¹ developed in the subject investigations, the United States International Trade Commission (“Commission”) determines, pursuant to the Tariff Act of 1930 (“the Act”), that an industry in the United States is materially injured by reason of imports of polyester textured yarn from China and India, provided for in subheadings 5402.33.3000 and 5402.33.6000 of the Harmonized Tariff Schedule of the United States, that have been found by the U.S. Department of Commerce (“Commerce”) to be sold in the United States at less than fair value (“LTFV”), and to be subsidized by the governments of China and India.²

¹ The record is defined in sec. 207.2(f) of the Commission's Rules of Practice and Procedure (19 CFR 207.2(f)).

² The Commission also finds that imports subject to Commerce's affirmative critical circumstances determination are not likely to undermine seriously the remedial effect of the countervailing and antidumping duty orders on polyester textured yarn from China.

Background

The Commission instituted these investigations effective October 18, 2018, following receipt of petitions filed with the Commission and Commerce by Unifi Manufacturing, Inc., Greensboro, North Carolina; and Nan Ya Plastics Corp. America, Lake City, South Carolina. The final phase of the investigations was scheduled by the Commission following notification of preliminary determinations by Commerce that imports of polyester textured yarn from China and India were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on July 29, 2019 (84 FR 36619). The hearing was held in Washington, DC, on November 13, 2019, and all persons who requested the opportunity were permitted to appear in person or by counsel.

The Commission made these determinations pursuant to sections 705(b) and 735(b) of the Act (19 U.S.C. 1671d(b) and 19 U.S.C. 1673d(b)). It completed and filed its determinations in these investigations on January 3, 2020. The views of the Commission are contained in USITC Publication 5007 (January 2020), entitled Polyester Textured Yarn from China and India: Investigation Nos. 701-TA-612-613 and 731-TA-1429-1430 (Final).

By order of the Commission.
Issued: January 3, 2020.
Lisa Barton,
Secretary to the Commission.

[FR Doc. 2020-00129 Filed 1-8-20; 8:45 am]

BILLING CODE 7020-02-P